DEPARTMENT OF COMMERCE

National Institute of Standards and Technology

Notice of Public Meeting—Intersection of Cloud Computing and Mobility Forum and Workshop

AGENCY: National Institute of Standards and Technology, Department of Commerce.

ACTION: Notice of public forum and workshop.

SUMMARY: The National Institute of Standards and Technology (NIST) announces the Intersection of Cloud and Mobility Forum and Workshop to be held on Tuesday, October 1, Wednesday, October 2, and Thursday, October 3, 2013. The format is a three-day forum with breakout sessions held each day. The NIST Intersection of Cloud and Mobility Forum and Workshop will bring together leaders and innovators from industry, academia and government in an interactive format that combines keynote presentations, panel discussions, interactive breakout sessions, and open discussion. The forum and workshop are open to the general public. NIST invites organizations to display posters and participate as exhibitors as described in the SUPPLEMENTARY INFORMATION section below.

DATES: The Intersection of Cloud and Mobility Forum and Workshop will be held 9:00 a.m.-5:00 p.m. Eastern Time (ET) on Tuesday, October 1, 9:00 a.m.-5:00 p.m. ET on Wednesday, October 2, and 9:00 a.m.-12:30 p.m. ET on Thursday, October 3, 2013.

ADDRESSES: To register, go to: http://www.nist.gov/itl/cloud/intersection-of-cloud-and-mobility.cfm. The event will be held at the National Institute of Standards and Technology, 100 Bureau Drive, Gaithersburg, MD 20899 in the Red Auditorium of the Administration Building (Building 101). Please note admittance instructions in the SUPPLEMENTARY INFORMATION section below.

FOR FURTHER INFORMATION CONTACT: Michaela Iorga by email at michaela.iorga@nist.gov or by phone at (301) 975-8431. Additional information may be found at: http://www.nist.gov/itl/cloud/intersection-of-cloud-and-mobility.cfm.

SUPPLEMENTARY INFORMATION: NIST hosted six prior Cloud Computing Forum & Workshop events in May 2010, November 2010, April 2011, November 2011, June 2012 and January 2013. The series of workshops was organized in response to the request of the U.S. Chief Information Officer that NIST lead federal efforts on standards for data portability, cloud interoperability, and security.¹ The workshops' goals are to engage with industry to accelerate the development of cloud standards for interoperability, portability, and security, discuss the Federal Government's experience with cloud computing, report on the status of the NIST Cloud Computing efforts, launch and report progress on the NIST-led initiative to collaboratively develop a U.S. Government (USG) Cloud Computing Technology Roadmap among multiple federal and industrial stakeholders, and to advance the dialogue among all of these stakeholders. This workshop in the series has been expanded to focus on the emerging trend of Mobility in the context of its convergence with and complementary relationship to Cloud Computing.

¹ Office of Management and Budget, U.S. Chief Information Officer, Federal Cloud Computing Strategy, Feb. 8, 2011. Online: https://cio.gov/wp-content/uploads/downloads/2012/09/Federal-Cloud-Computing-Strategy.pdf

On the first day, the workshop presenters will focus on the future of Cloud Computing, Mobility and where the two intersect, in addition to providing a status update on NIST efforts to develop or support development of security, interoperability and portability open standards, cloud service metrics and service level agreement guidance. On the second day, the workshop will focus on current Cloud Computing and Mobility challenges and how these challenges could be alleviated or exacerbated at the intersection of Cloud and Mobility. On the third day, the workshop will focus on the path forward to achieve full integration and harmonization of Cloud Computing and Mobility and to explore possibilities for harmonizing the two in ways that unleash their complementing power and augment their inter-correlation to promote progress and prosperity.

NIST invites members of the public, especially Cloud Computing and Mobility community stakeholders, to participate on Tuesday, October 1, and Wednesday, October 2, 2013, as an exhibitor. Exhibit space will be available for a total of 25 academic, industry, and standards developing organizations to exhibit their respective Cloud Computing or Mobility work at an exhibit table or with a poster. The first 25 organizations requesting an exhibit table or a poster display related to Cloud Computing & Mobility will be accepted for both days. Interested organizations should contact Tara Brown, email: tara.brown@nist.gov or (301) 975-4178. Requests for an exhibit table or posters will be granted on a first-come, first-serve basis. Responses must be submitted by an authorized representative of the organization. Logistics information will be provided to accepted exhibitors. NIST will provide the poster and exhibit location space and one work-table, free of charge. Exhibitors are responsible for the cost of the poster or exhibit, including staffing and materials. NIST reserves the right to exercise its judgment in the placement of posters and exhibits. General building security is supplied; however, exhibitors are responsible for transporting and securing exhibit equipment and materials. NIST is not liable with regard to damage or loss of equipment used in the exhibit table or poster.

The workshop is open to the general public; however, those wishing to attend must register at http://www.nist.gov/itl/cloud/intersection-of-cloud-and-mobility.cfm by 5:00 p.m. ET on Tuesday, September 24, 2013. All visitors to the NIST site are required to pre-register to be admitted and have appropriate government-issued photo ID to gain entry to NIST.

Dated: August 27, 2013.
Willie E. May,
Associate Director for Laboratory Programs.

[FR Doc. 2013-21489 Filed 9-3-13; 8:45 am]

BILLING CODE 3510-13-P